FEDERAL COMMUNICATIONS COMMISSION

[EB Docket No. 03-241; DA 03-3783]

In the Matter of Roger Thomas Scaggs Advanced Class Amateur Radio Operator and Licensee of Amateur Radio Station W5EBC

AGENCY: Federal Communications Commission.

ACTION: Notice; Order to show cause.

SUMMARY: This document is an order in which the Enforcement Bureau of the Federal Communications Commission requests a hearing proceeding before a Commission administrative law judge to determine whether Roger Thomas Scaggs, the licensee of W5EBC Amateur Radio Station and Advanced Class Operator license, is qualified to remain a Commission licensee in light of his 1998 felony conviction for murder and whether his authorization should be revoked.

DATES: Effective December 22, 2003.

FOR FURTHER INFORMATION CONTACT: Gary Oshinsky, (202) 418-7167 or e-mail goshinsky@fcc.gov.

SUPPLEMENTARY INFORMATION: This is a summary of the Order to Show Cause regarding Roger Thomas Scaggs, EB Docket No. 03-241, DA 03-3738, released November 21, 2003. The complete text of this document is available for public inspection and copying during regular business hours at the FCC Reference Information Center, Portals II, 445 12th Street, SW., Room CY-A257, Washington, DC, 20554. In addition, the complete text may be retrieved from the FCC's Web site at http://www.fcc.gov. The Order to Show Cause regarding Roger Thomas Scaggs may also be purchased from the Commission's duplicating contractor, Qualex International, Portals II, 445 12th Street, SW., Room CY-B402, Washington, DC, 20554, telephone 202-863-2893, facsimile 202-863-2898, or via e-mail qualexint@aol.com.

A. Background

1. Approximately six months after the Commission granted Mr. Scaggs' subject amateur radio license, on November 16, 1998, he was convicted for the March 6, 1996, murder of Penny Scaggs, his wife of thirty-five years. The record in that case showed that Mr. Scaggs beat to death his wife with a galvanized lead pipe and then stabbed her several times in their home. Mr. Scaggs was convicted and sentenced by the jury to a prison term of thirty-two (32) years, and he was fined Ten Thousand Dollars ($10,000.00). His conviction was affirmed and his request for rehearing overruled on June 22, 2000.

B. Discussion

2. Accordingly, section 312(a) (2) of the Communications Act of 1934, as amended (the “Act”), provides that the Commission may revoke any license on the basis of “conditions coming to the attention of the Commission which would warrant it in refusing to grant a license or permit on the original application.” Among the factors that the Commission considers in its review of applications to determine whether the applicant has the requisite qualifications to operate the station for which authority is sought is the character of the applicant. Before revoking a license, the Commission must serve the licensee with an order to show cause why revocation should not issue and must provide the licensee with an opportunity for hearing.

3. In assessing character qualifications in broadcast licensing matters, the Commission considers, as relevant, “evidence of any conviction for misconduct constituting a felony.” The Commission believes that “[b]ecause all felonies are serious crimes, any conviction provides an indication of an applicant's or licensee's propensity to obey the law” and to conform to provisions of both the Act and the agency's rules and policies. The Commission has consistently applied these broadcast character standards to applicants and licensees in the Amateur Radio Service. Thus, very serious felonies raise potential questions regarding an amateur licensee's qualifications.

4. Here, Mr. Scaggs' murder conviction raises very serious questions as to whether he possesses the requisite character qualifications to be and to remain a Commission licensee and whether his captioned license should be revoked. For this reason, we are designating the matter for hearing before a Commission administrative law judge.

C. Ordering Clauses

5. Pursuant to sections 312(a) and (c) of the Act, and authority delegated pursuant to §§ 0.111, 0.311, and 1.91(a) of the Commission's rules, Roger Thomas Scaggs is hereby Ordered to Show Cause why his authorization for Amateur Radio Advanced Class License W5EBC should not be revoked. Roger Thomas Scaggs shall appear before an administrative law judge at a time and place to be specified in a subsequent order and provide evidence upon the following issues:

i. To determine the effect of Roger Thomas Scaggs' felony conviction on his qualifications to be and to remain a Commission licensee; and

ii. To determine, in light of the evidence adduced pursuant to the foregoing issue, whether Roger Thomas Scaggs is qualified to be and to remain a Commission licensee and whether his Amateur Radio Advanced Class License W5EBC should be revoked.

6. Pursuant to section 312(c) of the Act and 1.91(c) of the Commission's rules, to avail himself of the opportunity to be heard and the right to present evidence in the hearing in this proceeding, Roger Thomas Scaggs, in person or by his attorney, shall file with the Commission, within thirty (30) days of the release of this Order to Show Cause, a written appearance stating that he will appear on the date fixed for hearing and present evidence on the issues specified herein.

7. Pursuant to 1.92(c) of the Commission's rules, if Roger Thomas Scaggs fails to timely file a written appearance within the thirty (30)-day period, or has not filed a petition to accept, for good cause shown, a written appearance beyond the expiration of the thirty (30)-day period, the right to a hearing shall be deemed to be waived. Where a hearing is waived, the presiding administrative law judge shall, at the earliest practicable date, issue an order terminating the hearing proceeding and certifying the case to the Commission.

8. Pursuant to section 312(d) of the Act and § 1.91(d) of the Commission's rules, the burden of proceeding with the introduction of evidence and the burden of proof with respect to both of the issues specified above shall be on the Enforcement Bureau.

9. The Order to Show Cause regarding Roger Thomas Scaggs, be sent, by Certified Mail, Return Receipt Requested, to Roger Thomas Scaggs, RR 2 Box 4400, Gatesville, Texas 76597, and to his counsel, Charles R. Burton, Esq., Minton, Burton, Foster & Collins, 1100 Guadalupe Street, Austin, Texas 78701.

10. The Secretary of the Commission shall cause to have this Order to Show Cause regarding Roger Thomas Scaggs or a summary thereof published in the Federal Register.

Federal Communications Commission.
David Solomon,
Chief, Enforcement Bureau.

[FR Doc. 03-31022 Filed 12-15-03; 8:45 am]

BILLING CODE 6712-01-P